DEPARTMENT OF DEFENSE

Office of the Secretary

[Docket ID: DoD-2015-OS-0007]

Proposed Collection; Comment Request

AGENCY: Office of the Under Secretary of Defense for Acquisition, Technology, and Logistics/Defense Standardization Program Office, DoD.

ACTION: Notice.

SUMMARY: In compliance with the Paperwork Reduction Act of 1995, the Office of the Under Secretary of Defense for Acquisition, Technology, and Logistics announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 30, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Standardization Program Office, Defense Logistics Agency, 8725 John J. Kingman Road, STOP 5100, ATTN: Mr. Tim Koczanski, Fort Belvoir, VA 22060, or call the Defense Standardization Program Office at (703) 767-6870.

SUPPLEMENTARY INFORMATION: Title; Associated Form; and OMB Number: Certification of Qualified Products; DD Form 1718; OMB Control Number 0704-0487.

Needs and Uses: The information collection requirement is necessary to obtain, certify and record qualification of products or processes falling under the DoD Qualification Program. This form is included as an exhibit in an appeal or hearing case file as evidence of the reviewer's products or process qualifications in advance of, and independent of an acquisition.

Affected Public: Business or other for profit.

Annual Burden Hours: 638.

Number of Respondents: 1,276.

Responses per Respondent: 1.

Annual Responses: 1,276.

Average Burden per Response: 0.30 minutes.

Frequency: Biennially.

Respondents are individuals who supply products to the Department of Defense that are listed on Qualified Products Lists (QPLs) or Qualified Manufacturers List (QMLs). DD Form 1718, “Certification of Qualified Products” records and certifies, from the manufacturers, distributor, or reseller that the products still conforms to the specification. If the form is not included in the contract file, individuals procuring these items cannot be assured that the products conform to the specification and therefore are qualified products from qualified sources. The use of the DD Form 1718 is essential in maintaining the integrity of the qualification program.

Dated: January 26, 2015.
Aaron Siegel,
Alternate OSD Federal Register Liaison Officer, Department of Defense.

[FR Doc. 2015-01676 Filed 1-28-15; 8:45 am]

BILLING CODE 5001-06-P